DEPARTMENT OF ENERGY

Federal Energy Regulatory Commission

[Project No. P-1025-091]

Safe Harbor Water Power Corporation; Notice of Intent To File License Application, Filing of Pre-Application Document (Pad), Commencement of Pre-Filing Process and Scoping, Request for Comments on the Pad and Scoping Document, and Identification of Issues and Associated Study Requests

a. Type of Filing: Notice of Intent to File License Application for a New License and Commencing Pre-filing Process.

b. Project No.: P-1025-091.

c. Dated Filed: April 2, 2025.

d. Submitted by: Safe Harbor Water Power Corporation (Safe Harbor Corporation).

e. Name of Project: Safe Harbor Hydroelectric Project (Safe Harbor Project).

f. Location: The project is located on the Susquehanna River in Lancaster and York counties, Pennsylvania.

g. Filed Pursuant to: 18 CFR part 5 of the Commission's Regulations.

h. Potential Applicant Contact: Luke Anderson, Senior Manager, Licensing, Safe Harbor Water Power Corporation, 1 Powerhouse Road, Conestoga, Pennsylvania 17516; (207) 775-5613; luke.anderson@brookfieldrenewable.com or Kirk Smith, Director of Regulatory & Environmental, Gomez and Sullivan Engineers, D.P.C., P.O. Box 2179, Henniker, New Hampshire 03242; (207) 775-5613; ksmith@gomezand sullivan.com.

i. FERC Contact: Chris Millard at (202) 502-8256 or email at christopher.millard@ferc.gov.

j. Cooperating Agencies: Federal, state, local, and Tribal agencies with jurisdiction and/or special expertise with respect to environmental issues that wish to cooperate in the preparation of the environmental document should follow the instructions for filing such requests described in paragraph o below. Cooperating agencies should note the Commission's policy that agencies that cooperate in the preparation of the environmental document cannot also intervene. See 94 FERC ¶ 61,076 (2001).

k. With this notice, we are initiating informal consultation with: (a) the U.S. Fish and Wildlife Service and NOAA Fisheries under section 7 of the Endangered Species Act and the joint agency regulations thereunder at 50 CFR, Part 402; and (b) the State Historic Preservation Office, as required by section 106, National Historic Preservation Act, and the implementing regulations of the Advisory Council on Historic Preservation at 36 CFR 800.2.

l. With this notice, we are designating Safe Harbor Corporation as the Commission's non-federal representative for carrying out informal consultation, pursuant to section 7 of the Endangered Species Act and section 106 of the National Historic Preservation Act.

m. Safe Harbor Corporation filed with the Commission a Pre-Application Document (PAD, including a proposed process plan and schedule), pursuant to 18 CFR 5.6 of the Commission's regulations.

n. A copy of the PAD is available for review on the Commission's website (http://www.ferc.gov) using the “eLibrary” link. Enter the docket number, excluding the last three digits of the sub-docket in the docket number field, to access the document. For assistance, contact FERC Online Support at FERCOnlineSupport@ferc.gov, (866) 208-3676 (toll free) or (202) 502-8659 (TTY). A copy is also available via the contact in paragraph h.

Register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file all documents using the Commission's eFiling system at https://ferconline.ferc.gov/FERC Online.aspx. Commenters can submit brief comments up to 6,000 characters, without prior registration, using the eComment system at https://ferconline.ferc.gov/Quick Comment.aspx. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-1025-091.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so on or before 5:00 p.m. Eastern Daylight Time (EDT) on July 31, 2025.

p. Scoping Process: Pursuant to the National Environmental Policy Act (NEPA), Commission staff will prepare either an environmental assessment (EA) or an environmental impact statement (EIS) (collectively referred to as the “NEPA document”). The NEPA document will consider both site-specific and cumulative environmental effects, and reasonable alternatives to the proposed action.

Scoping Meetings

Commission staff will hold two scoping meetings for the project to receive input on the scope of the NEPA document. We invite all interested agencies, Native American Tribes, NGOs, and the public to attend one or both meetings to assist us in identifying the scope of environmental issues that should be analyzed in the NEPA document. The dates and times of the scoping meetings are listed below.

Daytime Scoping Meeting

Date: Wednesday, June 25, 2025.

Time: 1:00 p.m. to 3:00 p.m. EDT.

Location: DoubleTree Resort, 2400 Willow Street Pike, Lancaster, Pennsylvania.

Evening Scoping Meeting

Date: Wednesday, June 25, 2025.

Time: 6:00 p.m. to 8:00 p.m. EDT.

Location: DoubleTree Resort, 2400 Willow Street Pike, Lancaster, Pennsylvania.

Copies of SD1, outlining the subject areas to be addressed in the environmental document, was mailed to the individuals and entities on the Commission's mailing list and Safe Harbor Corporation's PAD distribution list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Environmental Site Visit

Safe Harbor Corporation and Commission staff will hold an environmental site review of the Safe Harbor Project from 9:00 a.m. to 3:30 p.m. EDT, June 27, 2025. All interested individuals, agencies, Tribes, and NGOs are invited to attend. Please RSVP to Mr. Luke Anderson of Safe Harbor Corporation at luke.anderson@brookfieldrenewable.com or by phone at (207) 775-5613, no later than June 20, 2025 to register for the environmental site review. For administrative purposes, Safe Harbor Corporation prefers interested persons to RSVP by email.

Participants will meet at 1 Powerhouse Road, Conestoga, Pennsylvania (coordinates: 39.925486, −76.389039). From River Road, turn onto Powerhouse Road and proceed 0.3 mile, passing over railroad tracks and continuing to the security gate at 0.5 mile. Safe Harbor Corporation employees at the security gate will greet and direct visitors to the meeting area. Please arrive by 8:45 a.m.

The site review will include the project powerhouse and dam from 9:00 a.m. to 12:00 p.m. and recreation sites (draft tube bridge fishing, Safe Harbor Park and Arboretum, and the tailrace fishing station) from 12:30 p.m. to 3:30 p.m. All persons attending the environmental site review must adhere to the following requirements: (1) all persons must wear sturdy, closed-toe shoes or boots; (2) persons with open-toed shoes/sandals/flip flops/high heels, etc. will not be allowed on the environmental site review; (3) persons must be 18 years or older; (4) no photography will be allowed inside the powerhouse; (5) no weapons are allowed on-site; (6) no alcohol/drugs are allowed on-site (or persons exhibiting the effects thereof); and (7) no animals (except for service animals) are allowed on the environmental site review.

Meeting Procedures

Agencies, Native American Tribes, NGOs, and individuals with environmental expertise and concerns are encouraged to attend the meetings and to assist the staff in defining and clarifying the issues to be addressed in the NEPA document. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix C of the SD1 for additional information on the session format and conduct.¹

¹ The appendix referenced in this notice will not appear in the Federal Register. A copy of the appendix was sent to all those receiving this notice in the mail and is available at www.ferc.gov using the “eLibrary” link. For assistance, contact FERC at FERCOnlineSupport@ferc.gov, or (866) 208-3676 (toll free) or (202) 502-8659 (TTY).

Scoping comments will be recorded by the court reporter and become part of the public record for this proceeding. Transcripts will be publicly available on FERC's eLibrary system. If a significant number of people are interested in providing oral comments in the one-on-one settings, a time limit may be implemented for each commentor.

It is important to note that the Commission provides equal consideration to all comments received, whether filed in writing or provided orally at a scoping session. Although there will not be a formal presentation, Commission staff will be available throughout the scoping meeting(s) to answer your questions about the environmental review process. Representatives from Safe Harbor Corporation will also be present to answer project-specific questions.

Dated: May 30, 2025.
Debbie-Anne A. Reese,
Secretary.

[FR Doc. 2025-10268 Filed 6-5-25; 8:45 am]

BILLING CODE 6717-01-P